DEPARTMENT OF THE TREASURY

Office of Foreign Assets Control

31 CFR Parts 587 and 589

Publication of Russian Harmful Foreign Activities Sanctions Regulations and Ukraine-/Russia-Related Sanctions Regulations Web General License 125

AGENCY: Office of Foreign Assets Control, Treasury.

ACTION: Publication of a web general license.

SUMMARY: The Department of the Treasury's Office of Foreign Assets Control (OFAC) is publishing a general license (GL) issued pursuant to the Russian Harmful Foreign Activities Sanctions Regulations and the Ukraine-/Russia-Related Sanctions Regulations: GL 125, which was previously made available on OFAC's website.

DATES: GL 125 was issued on August 13, 2025. See SUPPLEMENTARY INFORMATION for additional relevant dates.

FOR FURTHER INFORMATION CONTACT: OFAC: Assistant Director for Regulatory Affairs, 202-622-4855; or https://ofac.treasury.gov/contact-ofac.

SUPPLEMENTARY INFORMATION:

Electronic Availability

This document and additional information concerning OFAC are available on OFAC's website: https://ofac.treasury.gov/.

Background

On August 13, 2025, OFAC issued GL 125 to authorize certain transactions otherwise prohibited by the Russian Harmful Foreign Activities Sanctions Regulations, 31 CFR part 587, and the Ukraine-/Russia-Related Sanctions Regulations, 31 CFR part 589. This GL was made available on OFAC's website (https://ofac.treasury.gov) when it was issued. The text of this GL is provided below.

OFFICE OF FOREIGN ASSETS CONTROL

Russian Harmful Foreign Activities Sanctions Regulations

31 CFR Part 587

Ukraine-/Russia-Related Sanctions Regulations

31 CFR Part 589

GENERAL LICENSE NO. 125

Authorizing Transactions Related to Meetings Between the Government of the United States of America and the Government of the Russian Federation in Alaska

(a) To the extent authorization is required and except as provided in paragraph (b) of this general license, all transactions prohibited by the Russian Harmful Foreign Activities Sanctions Regulations, 31 CFR part 587 (RuHSR), or the Ukraine-/Russia-Related Sanctions Regulations, 31 CFR part 589 (URSR), that are ordinarily incident and necessary to the attendance at or support of meetings in the State of Alaska between the Government of the United States of America and the Government of the Russian Federation are authorized through 12:01 a.m. eastern daylight time, August 20, 2025.

(b) This general license does not authorize:

(1) The unblocking or release of any property blocked or effectively immobilized pursuant to any part of 31 CFR chapter V; or

(2) Any transactions otherwise prohibited by the RuHSR or the URSR, except as authorized by paragraph (a) of this general license, or any transaction or activity prohibited by any other Executive order or any part of 31 CFR chapter V.

Bradley T. Smith,

Director, Office of Foreign Assets Control.

Dated: August 13, 2025.
Bradley T. Smith,
Director, Office of Foreign Assets Control.

Editorial Note: This document was received for publication by the Office of the Federal Register on December 10, 2025.

[FR Doc. 2025-22653 Filed 12-11-25; 8:45 am]

BILLING CODE 4810-AL-P